JUDICIAL CONFERENCE OF THE UNITED STATES

Meeting of the Judicial Conference Committee on Rules of Practice and Procedure

AGENCY: Judicial Conference of the United States Committee on Rules of Practice and Procedure.

ACTION: Notice of open meeting.

SUMMARY: The Committee on Rules of Practice and Procedure will hold a two-day meeting. The meeting will be open to public observation but not participation.

DATE: January 3-4, 2013.

TIME: 8:30 a.m. to 5:00 p.m.

ADDRESSES: The Charles Hotel, Harvard Square, One Bennett Street, Cambridge, MA 02138.

FOR FURTHER INFORMATION CONTACT: Jonathan C. Rose, Rules Committee Secretary, Rules Committee Support Office, Administrative Office of the United States Courts, Washington, DC 20544, telephone (202) 502-1820.

Dated: November 20, 2012.
Jonathan C. Rose,
Rules Committee Secretary.

[FR Doc. 2012-28627 Filed 11-23-12; 8:45 am]

BILLING CODE 2210-55-P